DEPARTMENT OF HOMELAND SECURITY

Federal Emergency Management Agency

[Docket ID: FEMA-2013-0049; OMB No. 1660-0102]

Agency Information Collection Activities: Proposed Collection; Comment Request; Federal Emergency Management Agency Housing Inspection Services Customer Satisfaction Survey

AGENCY: Federal Emergency Management Agency, DHS.

ACTION: Notice.

SUMMARY: The Federal Emergency Management Agency, as part of its continuing effort to reduce paperwork and respondent burden, invites the general public and other Federal agencies to take this opportunity to comment on a revision of a currently approved information collection. In accordance with the Paperwork Reduction Act of 1995, this notice seeks comments concerning the housing inspection services customer satisfaction survey.

DATES: Comments must be submitted on or before February 7, 2014.

ADDRESSES: To avoid duplicate submissions to the docket, please use only one of the following means to submit comments:

(1) Online. Submit comments at www.regulations.gov under Docket ID FEMA-2013-0049. Follow the instructions for submitting comments.

(2) Mail. Submit written comments to Docket Manager, Office of Chief Counsel, DHS/FEMA, 500 C Street SW., 8NE, Washington, DC 20472-3100.

(3) Facsimile. Submit comments to (703) 483-2999.

All submissions received must include the agency name and Docket ID. Regardless of the method used for submitting comments or material, all submissions will be posted, without change, to the Federal eRulemaking Portal at http://www.regulations.gov, and will include any personal information you provide. Therefore, submitting this information makes it public. You may wish to read the Privacy Act notice that is available via the link in the footer of www.regulations.gov.

FOR FURTHER INFORMATION CONTACT: Dawson Riggleman, Contracting Officer's Representative, FEMA Contract Management and Housing Inspection Services, 540-686-3810. You may contact the Records Management Division for copies of the proposed collection of information at facsimile number (202) 646-3347 or email address: FEMA-Information-Collections-Management@dhs.gov.

SUPPLEMENTARY INFORMATION: Executive Order 12862, Setting Customer Service Standards, signed on 9/11/1993 requires all executive departments and agencies that provide significant services directly to the public to provide those services in a manner that seeks to meet the customer service standard established by E.O. 12862 and to take the following actions: (1) Identify the customers who are, or should be served by the agency; (2) survey customers to determine the kind and quality of services requested and their level of satisfaction with existing services; (3) post service standards and measure results against standards; (4) benchmark customer service performance against the best in business; (5) survey front-line employees on barriers and ideas for, matching the best in business; (6) provide customers with choices in both the sources of service and the means of delivery; (7) make information, services, and complaint systems easily accessible; and (8) provide means to address customer complaints. In compliance with the FEMA Housing Inspection Services, contract inspectors meet with disaster assistance applicants in Federally declared disasters areas to assess dwelling damage. This survey will collect responses to questions about different aspects of the housing inspection process such as the time commitment for the inspection, how the respondent felt about the inspection procedure, and the overall level of satisfaction with the inspection process.

Collection of Information

Title: Federal Emergency Management Agency Housing Inspection Services Customer Satisfaction Survey.

Type of Information Collection: Revision of a currently approved information collection.

FEMA Forms: 007-0-1 and FEMA Form 007-0-1S.

Abstract: Federal Emergency Management Agency Housing Inspection Services Customer Satisfaction Survey, FEMA Form 007-0-1 and 007-0-1S are used to survey individuals who have contacted FEMA for disaster assistance. FEMA Inspection Services Managers and Task Monitors use the survey results to measure disaster inspector customer service and make improvements to disaster services that increase customer satisfaction and inspection program effectiveness. The information is shared with Regional staff specific to the Federal declaration for which the survey is conducted to further assist in enhancing customer service to those affected by disasters and other incidents that result in a declaration.

Affected Public: Individuals and Households.

Number of Respondents: 9,441.

Number of Responses: 9,441.

Estimated Total Annual Burden Hours: 2,360.

Estimated Cost: There are no recordkeeping, capital, start-up or maintenance costs associated with this information collection.

Comments

Comments may be submitted as indicated in the ADDRESSES caption above. Comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

Dated: November 25, 2013.
Charlene D. Myrthil,
Director, Records Management Division, Mission Support Bureau, Federal Emergency Management Agency, Department of Homeland Security.

[FR Doc. 2013-29256 Filed 12-6-13; 8:45 am]

BILLING CODE 9111-23-P